DEPARTMENT OF HEALTH AND HUMAN SERVICES

Administration for Children and Families

Administration for Native Americans; Notice of Meeting

AGENCY: Administration for Children and Families, Department of Health and Human Services.

ACTION: Notice of Tribal Consultation.

SUMMARY: The U.S. Department of Health and Human Services, Administration for Children and Families (ACF) will host a virtual Tribal Consultation to consult on ACF programs and tribal priorities.

DATES:

Wednesday, June 10, 2020 from 1:00 p.m. to 5:45 p.m. (EDT) and

Thursday, June 11, 2020 from 1:00 p.m. to 5:45 p.m. (EDT)

ADDRESSES: Adobe Connect virtual platform and teleconference.

FOR FURTHER INFORMATION CONTACT: Michelle Sauve, Intergovernmental Affairs Specialist, Administration for Native Americans at 202-260-6974, by email at michelle.sauve@acf.hhs.gov.

SUPPLEMENTARY INFORMATION: The Administration for Children and Families (ACF), a division of the U.S. Department of Health and Human Services (HHS), promotes the economic and social well-being of families, children, individuals and communities with funding, strategic partnerships, guidance, training, and technical assistance. ACF's programs serve a wide variety of groups, including individuals and families with low income, refugees, Native Americans, and many others. To carry out its activities, ACF awards grants to state and local governments, non-profit groups, faith and community-based organizations, federally recognized Indian tribes, and in some programs, state-recognized or other Native American communities. ACF furnishes technical assistance, guidance, and overall supervision to grantees that, in turn, are responsible for direct delivery of services.

Pursuant to Executive Order 13175 of November 6, 2000 and the ACF Tribal Consultation Policy signed in 2011, ACF will host an annual tribal consultation in recognition of the government-to-government relationship between the United States and Indian tribes. Tribes may comment on any program or service of ACF as part of the consultation.

This year, when H.R. 1865, Further Consolidated Appropriations Act, 2020, became Public Law No: 116-94 on December 20, 2019, the appropriations language encouraged ACF “to convene a working group of federal early childhood program administrators, tribal early childhood stakeholders, and tribal leaders to examine coordination issues that may be impacting early childhood initiatives in tribal communities.” We are interested in tribal leader input on barriers and opportunities regarding synchronizing early childhood initiatives in their communities.

We invite tribes to provide written testimony, in advance, to the Administration for Children and Families to help guide discussion. Testimonies are to be submitted no later than June 10, 2020 to the following: Jeannie Hovland, Commissioner, Administration for Native Americans, anacommissioner@acf.hhs.gov.

For further information and registration details for this Consultation, please visit the following link: https://www.acf.hhs.gov/ana/2020-acf-tribal-consultation.

Linda K. Hitt,
Executive Secretariat Certifying Officer.

[FR Doc. 2020-09850 Filed 5-7-20; 8:45 am]

BILLING CODE P